DEPARTMENT OF TRANSPORTATION

Pipeline and Hazardous Materials Safety Administration

49 CFR 191, 192, 193, and 195

[Docket No. PHMSA-2011-0121]

Pipeline Safety: National Pipeline Mapping System Data Submissions and Submission Dates for Gas Transmission and Gathering Systems and Liquefied Natural Gas Annual Reports

AGENCY: Pipeline and Hazardous Materials Safety Administration (PHMSA), DOT.

ACTION: Issuance of advisory bulletin.

SUMMARY: This document advises owners and operators of gas transmission and gathering systems and Liquefied Natural Gas (LNG) facilities that they have until August 15, 2011, to submit their Calendar Year 2010 Annual Reports. This document also provides guidance for Calendar Year 2010 National Pipeline Mapping System (NPMS) submissions.

FOR FURTHER INFORMATION CONTACT: Roger Little, 202-366-4569 or by e-mail at Roger.Little@dot.gov.

SUPPLEMENTARY INFORMATION:

I. Background

The Pipeline and Hazardous Materials Safety Administration (PHMSA) published a final rule on November 26, 2010, under Docket No. PHMSA 2008-0291 [75 FR 72878], titled: “Pipeline Safety: Updates to Pipeline and Liquefied Natural Gas Reporting Requirements” (One Rule). This rulemaking revised the Pipeline Safety Regulations (49 CFR part 190-199) to improve the reliability and utility of data collections from operators of natural gas pipelines, hazardous liquid pipelines, and LNG facilities. As a result of the rulemaking, several annual and incident report forms were created while other forms were revised. Included among these forms, PHMSA created a new Annual Report for LNG facilities (LNG Annual Report; PHMSA F-7100.3-1) and revised the Annual Report for Natural or Other Gas Transmission and Gathering Systems (Gas Transmission and Gathering Annual Report; PHMSA F-7100.2-1). The One Rule revised § 191.17 to specify that these reports should be submitted no later than March 15 for the preceding year, except for Calendar Year 2010, where reports should be submitted by June 15, 2011. This delayed reporting date for Calendar Year 2010 was added to allow companies time to update their information for submission according to the revised form.

After the One Rule was published, PHMSA received a petition from the American Gas Association (AGA) on December 22, 2010, asking for reconsideration of the information collected on the LNG Annual Report form. PHMSA reviewed the petition and has revised the form based on AGA's recommendation. PHMSA is using this document to announce that we are extending the reporting date for the LNG Annual Report form to August 15, 2011, to allow further time to prepare the electronic system PHMSA will use to collect the information. Next year, the filing date will go back to the March 15 date specified in the regulation.

In addition, PHMSA determined that further clarifications were needed to Parts K and L on the revised Gas Transmission and Gathering Systems annual report, specifically to correct boundaries for Specified Minimum Yield Strength, and to clarify certain sections of Part L that were not applicable to the regulated community at present. Accordingly, PHMSA has blacked out those sections of the form to clarify the intent of the information collection. In addition, PHMSA is extending the Gas Transmission and Gathering Systems report filing deadline from the stated June 15, 2011, to August 15, 2011, for PHMSA to prepare the electronic system it will be using to collect the information. This will also align the filing date with the new LNG Annual Report. Next year, the filing date of the Gas Transmission and Gathering Systems report will go back to the March 15 date specified in the regulation. The forms are available at the following URL: http://www.phmsa.dot.gov/pipeline/library/forms.

PHMSA has also received a number of questions regarding NPMS submissions. The NPMS consists of geospatial data, attribute data, public contact information, and metadata pertaining to the interstate and intrastate hazardous liquid trunklines and hazardous liquid low-stress lines as well as gas transmission pipelines, LNG plants, and hazardous liquid breakout tanks regulated by PHMSA. Most operators submit their NPMS data to PHMSA at the same time they file their annual report. For example, gas transmission operators who file their annual report on the regular filing date of March 15 for the previous calendar year would also submit their NPMS data on March 15 for the previous calendar year, reflecting assets as of December 31, 2010. Although PHMSA is extending the filing date for annual report submissions, operators are encouraged to file their NPMS data at their regularly scheduled times.

For clarification purposes, PHMSA is providing the following table which explains the reporting dates for annual reporting:

| Normal submission date (49 CFR cite) | Calendar year 2010 submission (49 CFR cite) | Calendar year 2010 extended submission date
Gas Transmission and Gathering Systems Annual Report (PHMSA-F 7100.2-1) | March 15 (§ 191.15(a)) | June 15, 2011 (§ 191.15(a)) | Aug. 15, 2011.
LNG Annual Report (PHMSA-F 7100.3-1) | March 15 (§ 191.15(b)) | June 15, 2011 (§ 191.15(b)) | Aug. 15, 2011.
Hazardous Liquid Annual Report (PHMSA-F 7000-1.1) | June 15 (§ 195.49) | Aug. 15, 2011 (§ 195.49) |

Advisory Bulletin (ADB-11-03)

To: Owners and Operators of Gas Transmission and Gathering Pipeline Facilities, LNG Facilities, and Hazardous Liquid Pipeline Facilities.

Subject: Submission Dates and Minor Form Changes for Calendar Year 2010 Gas Transmission and Gathering Systems Annual Reports, LNG Annual Reports; and NPMS Data submissions.

Advisory: This document advises owners and operators of gas and LNG pipeline facilities that PHMSA is extending the reporting date for Calendar Year 2010 Gas Transmission and Gathering Systems Annual Reports (PHMSA F-7100.2-1) and LNG Annual Reports (PHMSA F-7100.3-1) to August 15, 2011. These forms were previously scheduled for submission on June 15, 2011. Any questions regarding these submissions may be directed to the Office of Pipeline Safety operator helpline at 202-366-8075.

In addition, operators subject to the NPMS statutory mandate are encouraged to file their annual data submissions based on their regularly scheduled dates. For example, hazardous liquid operators who normally submit their NPMS data on June 15 when they file their annual report are encouraged to file their 2010 NPMS data submission on June 15, reflecting assets as of December 31, 2010, even though the Hazardous Liquid Annual report is not required for submission until August 15, 2011. Any questions regarding NPMS submissions can be directed to Amy Nelson at 202-493-0591.

Issued in Washington, DC, on May 10, 2011.
Alan K. Mayberry,
Deputy Associate Administrator for Field Operations.

[FR Doc. 2011-11954 Filed 5-16-11; 8:45 am]

BILLING CODE 4910-60-P